DEPARTMENT OF VETERANS AFFAIRS

[OMB Control No. 2900-0914]

Agency Information Collection Activity Under OMB Review: Authorization to Disclose Personal Information to a Third Party—Education Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by October 3, 2025.

ADDRESSES: To submit comments and recommendations for the proposed information collection, please type the following link into your browser: www.reginfo.gov/public/do/PRAMain, select “Currently under Review—Open for Public Comments”, then search the list for the information collection by Title or “OMB Control No. 2900-0914.” FOR FURTHER INFORMATION CONTACT: VA PRA information: Dorothy Glasgow, 202-461-1084, VAPRA@va.gov

SUPPLEMENTARY INFORMATION:

Title: Authorization to Disclose Personal Information to a Third Party—Education Benefits, VA Form 22-10278.

OMB Control Number: 2900-0914 https://www.reginfo.gov/public/do/PRASearch.

Type of Review: Revision of a currently approved collection.

Abstract: The VA Form 22-10278 is used to release information in its custody or control in the following circumstances: where the individual identifies the particular information and consents to its use; for the purpose for which it was collected or a consistent purpose (i.e., a purpose which the individual might have reasonably expected). By law, VA must have a claimants or beneficiary's written permission (an “authorization”) to use or give out claim or benefit information for any purpose that is not contained in VA's System of Records, 58VA21/22/28 Compensation, Pension, Education and Veteran Readiness and Employment Records-VA. The claimant or beneficiary may revoke the authorization at any time, except if VA has already acted based on the claimant's permission. The VA Form 22-10278 will be available on the VA.gov website in a fillable electronic format. The form can be submitted either electronically or mailed to the appropriate VA Regional Processing Office.

An agency may not conduct or sponsor, and a person is not required to respond to a collection of information unless it displays a currently valid OMB control number. The Federal Register Notice with a 60-day comment period soliciting comments on this collection of information was published at 90 FR 27907, June 30, 2025.

Affected Public: Veterans and beneficiaries eligible for VA educational assistance benefits.

Estimated Annual Burden: 27 hours.

Estimated Average Burden per Respondent: 5 minutes.

Frequency of Response: Once.

Estimated Number of Respondents: 322.

(Authority: 44 U.S.C. 3501 et seq.)

Dorothy Glasgow,
Acting, VA PRA Clearance Officer, Office of Enterprise and Integration, Data Governance Analytics, Department of Veterans Affairs.

[FR Doc. 2025-16860 Filed 9-2-25; 8:45 am]

BILLING CODE 8320-01-P